DEPARTMENT OF ENERGY

Federal Energy Regulatory Commission

Combined Notice of Filings #1

Take notice that the Commission received the following electric corporate filings:

Docket Numbers: EC22-59-000.

Applicants: Acorn I Energy Storage, LLC, PPA Grand Johanna LLC, Wildcat I Energy Storage, LLC, GC esV Buyer, LLC.

Description: Joint Application for Authorization Under Section 203 of the Federal Power Act of Acorn I Energy Storage, LLC, et al.

Filed Date: 4/25/22.

Accession Number: 20220425-5554.

Comment Date: 5 p.m. ET 5/16/22.

Docket Numbers: EC22-60-000.

Applicants: EnergyMark, LLC, Marina Energy, LLC, Annadale Community Clean Energy Projects, LLC, Bronx Community Clean Energy Project, LLC, NJ Boardwalk Holdings LLC.

Description: Joint Application for Authorization Under Section 203 of the Federal Power Act of EnergyMark, et al.

Filed Date: 4/25/22.

Accession Number: 20220425-5555.

Comment Date: 5 p.m. ET 5/16/22.

Take notice that the Commission received the following electric rate filings:

Docket Numbers: ER10-2374-015; ER17-2059-009.

Applicants: Puget Sound Energy, Inc., Puget Sound Energy, Inc.

Description: Errata to April 4, 2022 Notice of Change in Status of Puget Sound Energy Inc.

Filed Date: 4/12/22.

Accession Number: 20220412-5231.

Comment Date: 5 p.m. ET 5/3/22.

Docket Numbers: ER21-963-001.

Applicants: Silverstrand Grid, LLC.

Description: Notice of Change in Status of Silverstrand Grid, LLC.

Filed Date: 4/25/22.

Accession Number: 20220425-5551.

Comment Date: 5 p.m. ET 5/16/22.

Docket Numbers: ER21-2934-000.

Applicants: East Texas Electric Cooperative, Inc.

Description: East Texas Electric Cooperative, Inc. submits tariff filing per 35.19a(b): Refund Report_to be effective N/A.

Filed Date: 4/25/22.

Accession Number: 20220425-5565.

Comment Date: 5 p.m. ET 5/16/22.

Docket Numbers: ER22-486-002.

Applicants: PJM Interconnection, L.L.C.

Description: Tariff Amendment: Supplemental Information re: GDECS 6 to be effective 1/29/2022.

Filed Date: 4/26/22.

Accession Number: 20220426-5156.

Comment Date: 5 p.m. ET 5/17/22.

Docket Numbers: ER22-1178-000.

Applicants: KCE NY 1, LLC.

Description: Supplement to March 3, 2022 KCE NY 1, LLC submits tariff filing per 35.13(a)(2)(iii: Change in Status 2022 to be effective March 4, 2022.

Filed Date: 4/25/22.

Accession Number: 20220425-5556.

Comment Date: 5 p.m. ET 5/16/22.

Docket Numbers: ER22-1685-000.

Applicants: Tucson Electric Power Company.

Description: § 205(d) Rate Filing: Rate Schedule No. 350, Balancing Authority Services Agreement to be effective 5/3/2022.

Filed Date: 4/26/22.

Accession Number: 20220426-5103.

Comment Date: 5 p.m. ET 5/17/22.

Docket Numbers: ER22-1686-000.

Applicants: Duke Energy Indiana, LLC.

Description: § 205(d) Rate Filing: DEI-NIPSCO Construction Agreement RS No. 279 to be effective 4/27/2022.

Filed Date: 4/26/22.

Accession Number: 20220426-5105.

Comment Date: 5 p.m. ET 5/17/22.

Docket Numbers: ER22-1687-000.

Applicants: Tampa Electric Company.

Description: Motion of Tampa Electric Company for Waiver of Rate Schedule Provisions, and for Shortened Comment Period.

Filed Date: 4/26/22.

Accession Number: 20220426-5127.

Comment Date: 5 p.m. ET 5/17/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2022.
Debbie-Anne A. Reese,
Deputy Secretary.

[FR Doc. 2022-09345 Filed 4-29-22; 8:45 am]

BILLING CODE 6717-01-P